DEPARTMENT OF HEALTH AND HUMAN SERVICES

Administration for Community Living

Notice of Intent To Award a Single Supplement to the National Association of Area Agencies on Aging

ACTION: Notice of Intent to award a single supplement to the National Association of Area Agencies on Aging.

SUMMARY: The Administration for Community Living (ACL) is announcing supplemental funding for the National Resource Center for Engaging Older Adults program. The National Resource Center for Engaging Older Adults program works to identify and disseminate information about emerging trends, resources, and replication strategies that the Aging Network can use and tailor in their communities to support the engagement of older adults. The purpose of this announcement is to award supplemental funds to the National Association of Area Agencies on Aging to support staff and the development of enhanced resources and tools to support the Aging Network.

Program Name: The National Resource Center for Engaging Older Adults.

Award Amount: $62,000.

Budget Period: 9/1/2018 to 8/31/2019.

Award Type: Cooperative Agreement.

Statutory Authority: The statutory authority for grants under this notice is contained in Title IV of the Older Americans Act (OAA) (42U.S.C. 3032), as amended by the Older Americans Act Amendments of 2006.

Catalog of Federal Domestic Assistance (CFDA) Number: 93.048 Discretionary Projects.

I. Program Description

The Administration on Aging, an agency of the U.S. Administration for Community Living, established the Engagement and Older Adults Resource Center to better ensure that the Aging Network has the tools and resources necessary for the development of programs that provide older adults effective ways to stay socially engaged. Through myriad approaches such as a website, webinars, fact sheets, and other materials the project is identifying, synthesizing, and disseminating innovative social engagements practices and programming.

II. Justification for the Supplemental Funding

In recent years with growing research demonstrating the correlation between social engagement and healthy aging, there has been an increase in the Aging Network's desire to seek new and innovative approaches to assist older adults remain active and engaged in the community. The Resource Center has been conducting webinars and identifying engagement resources to highlight on the Center's website, but there is a need for the project to accelerate the development of tools and resources, such as best practice profiles, fact sheets, and toolkits, to meet the needs of the Aging Network. The supplemental funding will be used to support additional staff to more rapidly identify successful engagement programs and strategies that can be shared with the aging network via the website, webinars, and other written products.

III. Eligible Applicants: Current Grantee

Evaluation Criteria: ACL will use the following evaluation criteria to ensure that proposed activities are within the approved scope and budget of the grant:

Approach

Is the purpose of the funding clearly described? Does it reflect a coherent and feasible approach for successfully achieving the identified outcome(s)? Is the project work plan clear and comprehensive? Does it include sensible and feasible timeframes for the accomplishment of tasks presented?

Budget

Is the budget justified with respect to the adequacy and reasonableness of resources requested? Are budget line items clearly delineated and consistent with project objectives?

Project Impact

Are the expected project benefits/results clear, realistic, and consistent with the objectives and purpose of the project?

IV. Application Review Information

Application will be reviewed by Federal staff.

V. Agency Contact

For further information or comments regarding this program expansion supplement, contact Sherri Clark, U.S. Department of Health and Human Services, Administration for Community Living, Administration on Aging, Washington, DC 20201; telephone (202) 795-7327; email sherri.clark@acl.hhs.gov.

Dated: July 6, 2018.
Lance Robertson,
Administrator and Assistant Secretary on Aging.

[FR Doc. 2018-15194 Filed 7-16-18; 8:45 am]

BILLING CODE 4154-01-P